FEDERAL COMMUNICATIONS COMMISSION

[IB Docket No. 16-185; DA 21-1633; FR ID 65393]

The World Radiocommunication Conference Advisory Committee Schedules Its Fifth Meeting on February 15, 2022

AGENCY: Federal Communications Commission.

ACTION: Notice.

SUMMARY: In accordance with the Federal Advisory Committee Act, this notice advises interested persons that the fifth meeting of the World Radiocommunication Conference Advisory Committee (WAC or Advisory Committee) meeting will be held on Tuesday, February 15, 2022 at 11:00 EST. Due to exceptional circumstances, the fifth WAC meeting will be convened as a virtual meeting with remote participation only. The meeting is open to the public. A draft agenda of the fifth WAC meeting is attached. This fifth WAC meeting will consider status reports and recommendations from its IWG-1, IWG-2, IWG-3, and IWG-4 concerning preparation for the 2023 World Radiocommunication Conference (WRC-23). The fifth WAC meeting will be broadcast live with open captioning over the internet from the FCC Live web page at www.fcc.gov/live. There will be audience participation available; send live questions to livequestions@fcc.gov only during this meeting. The Commission's WRC-23 website (www.fcc.gov/wrc-23) contains the latest information on the IWG meeting agendas and audience participation information, all scheduled meeting dates and updates, and Advisory Committee matters. Comments may be presented at the Advisory Committee meeting or in advance of the meeting by email to: WRC-23@fcc.gov.

DATES: Tuesday, February 15, 2022 (11:00 a.m. EST).

ADDRESSES: The meetings will be held virtually.

FOR FURTHER INFORMATION CONTACT: Dante Ibarra, Designated Federal Official, World Radiocommunication Conference Advisory Committee, FCC International Bureau, Global Strategy and Negotiation Division, at Dante.Ibarra@fcc.gov, (202) 418-0610 or WRC-23@fcc.gov.

SUPPLEMENTARY INFORMATION: The FCC established the Advisory Committee to provide advice, technical support and recommendations relating to the preparation of United States proposals and positions for the 2023 World Radiocommunication Conference (WRC-23). In accordance with the Federal Advisory Committee Act, Public Law 92-463, as amended, this notice advises interested persons of the fifth meeting of the Advisory Committee. The Commission's WRC-23 website (www.fcc.gov/wrc-23) contains the latest information on the WAC and IWG meeting agendas and audience participation information, all scheduled meeting dates and updates, and other WRC-23 Advisory Committee matters. The fifth WAC meeting will be broadcast live with open captioning over the internet from the FCC Live web page at www.fcc.gov/live. There will be audience participation available; send live questions to livequestions@fcc.gov only during this meeting.

The proposed agenda for the fifth WAC meeting is as follows:

Fifth Meeting of WRC-23 Advisory Committee Meeting Agenda

Tuesday, February 15, 2022 (11:00 a.m. EST)

1. Opening Remarks

2. Approval of Agenda

3. Approval of the Minutes of the Fourth Meeting

4. IWG Reports and Documents

5. Future Meetings

6. Other Business

Federal Communications Commission.
Nese Guendelsberger,
Deputy Bureau Chief, International Bureau.

[FR Doc. 2021-28488 Filed 1-3-22; 8:45 am]

BILLING CODE 6712-01-P